DEPARTMENT OF HEALTH AND HUMAN SERVICES

National Institutes of Health

National Cancer Institute Amended; Notice of Meeting

Notice is hereby given of a change in the meeting of the National Cancer Advisory Board and NCI Board of Scientific Advisors, June 23, 2013, 05:00 p.m. to June 24, 2013, 5:15 p.m., National Institutes of Health, Building 31, C Wing, 6th Floor, 31 Center Drive, Conference Room 10, Bethesda, MD, 20892 which was published in the Federal Register on May 31, 2013, 78FR32672.

This notice is being amended to return the meeting to the original scheduled number of meeting days. The meeting is scheduled as followed: On June 23, 2013, open session from 5:00 p.m. to 8:15 p.m.; on June 24, 2013, open session from 9:00 a.m. to 5:00 p.m.; and on June 25, 2013, open session from 9:00 a.m. to 11:00 a.m. and a closed session from 11:00 a.m. to 12:00 p.m. The meeting is partially closed to the public.

Dated: June 6, 2013.
Melanie J. Gray,
Program Analyst, Office of Federal Advisory Committee Policy.

[FR Doc. 2013-13893 Filed 6-11-13; 8:45 am]

BILLING CODE 4140-01-P